DEPARTMENT OF DEFENSE

Department of the Army

Proposed Collection; Comment Request

AGENCY: Department of the Army, DoD.

ACTION: Notice.

SUMMARY: In compliance with section 3506(c)(2)(A) of the Paperwork Reduction Act of 1995, the Department of the Army announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by May 27, 2003.

ADDRESSES: Written comments and recommendations on the proposed information collection should be sent to the Office of the Assistant Secretary of the Army (Manpower & Reserve Affairs), ATTN: SAMR-FMMR, (John Anderson), 111 Army Pentagon, Washington, DC 20310-0111. Consideration will be given to all comments received within 60 days of the date of publication of this notice.

FOR FURTHER INFORMATION CONTACT: To request more information on this proposed information collection or to obtain a copy of the proposal and associated collection instruments, please write to the above address, or call Department of the Army Reports Clearance Officer at (703) 695-5509.

Title, OMB Number: The Contractor Manpower Reporting Pilot Study, (To be Determined.)

Needs and Uses: This pilot program will greatly enhance the ability of the Army to identify and track its contractor workforce. Modern systems do not have contractor manpower data that is collected by the Contractor Manpower Reporting System—i.e., Estimated Direct Labor Hours, Estimated Direct Labor dollar and Organization supported. Existing financial and procurement systems have obligation amounts of an unknown mix, and the Department of the Army is not able to trace the funding to the organization supported.

Affected Public: Business or other for profit.

Annual Burden Hours: 80,445.

Number of Respondents: 31,870.

Responses Per Respondent: 55.

Average Burden Per Response: 0.0083.

Frequency: Annually.

SUPPLEMENTARY INFORMATION: Like all other Federal Government agencies, the Army's reliance on service contractor employees has increased significantly over the past few years. Moreover, this trend is likely to continue. Hence, it is more important than ever, that Government agencies have an accurate picture of what is rapidly becoming a “blended workforce” consisting of Federal employees and contractor personnel.

Luz D. Ortiz,
Army Federal Register Liaison Officer.

[FR Doc. 03-7496 Filed 3-27-03; 8:45 am]

BILLING CODE 3710-08-M